ENVIRONMENTAL PROTECTION AGENCY

[FRL-7403-2]

Agency Information Collection Activities: Submission for OMB Review; Comment Request; NSPS for Glass Manufacturing Plants (40 CFR Part 60, Subpart CC)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: NSPS for Glass Manufacturing Plants (40 CFR part 60, subpart CC), OMB Control Number 2060-0054, expiration date October 31, 2002. The ICR describes the nature of the information collection and its expected burden and cost; where appropriate, it includes the actual data collection instrument.

DATES: Comments must be submitted on or before December 2, 2002.

ADDRESSES: Send comments, referencing EPA ICR Number 1131.07 and OMB Control Number 2060-0054, to the following addresses: Susan Auby, United States Environmental Protection Agency, Collection Strategies Division (Mail Code 2822T), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR, contact Susan Auby at EPA by phone at: (202) 566-1672, by E-Mail to: auby.susan@epa.gov, or download from the Internet at: http://www.epa.gov/icr, and refer to EPA ICR Number 1131.07. For technical questions about the ICR, contact Gregory Fried, Air, Hazardous Waste and Toxics Branch, at (202) 564-7016.

SUPPLEMENTARY INFORMATION: Title: NSPS for Glass Manufacturing Plants (40 CFR part 60, subpart CC), OMB Control Number 2060-0054, EPA ICR Number 1131.07, expiration date October 31, 2002. This is a request for extension of a currently approved collection.

Abstract: The NSPS for Glass Manufacturing Plants (40 CFR part 60, subpart CC) were proposed on June 15, 1979 and promulgated on October 7, 1980, and amended October 19, 1984. Approximately 45 sources are currently subject to the standard, and it is estimated that no additional sources will become subject to the standard in the next three years. The standards do not apply to hand glass melting furnaces, glass melting furnaces designed to produce less than 4,550 kilograms of glass per day, or all-electric melters. Experimental furnaces are not subject to the emission standards at 40 CFR 60.292. The standards set particulate matter emission limits. There are separate limits for sources using “modified-process” glass melting furnaces. Modified-process is defined as any technique designed to minimize emissions without add-on controls. Emission limits are specific for the type of glass produced, and are listed at 40 CFR 60.292(a) and 60.293(b).

Owners or operators of the affected facilities described must make initial notifications, conduct and report on a performance test, demonstrate and report on continuous monitor performance, maintain records of the occurrence and duration of any startup, shutdown, or malfunction in the operation of an affected facility. Semiannual reports of excess emissions are required. These notifications, reports, and records are required, in general, for all sources subject to NSPS. The recordkeeping and reporting requirements specific to glass manufacturing plants are detailed in the CFR. This information is being collected to assure compliance with 40 CFR part 60, subpart CC.

Any owner or operator subject to the provisions of this part shall maintain a file of these measurements, and retain the file for at least two years following the date of such measurements, maintenance reports, and records. All reports are sent to the delegated State or local authority. In the event that there is no such delegated authority, the reports are sent directly to the EPA Regional Office.

In the Administrator's judgment, particulate matter emissions from glass manufacturing plants cause or contribute to air pollution that may reasonably be anticipated to endanger public health or welfare. Therefore, NSPS were promulgated for this source category at 40 CFR part 60, subpart CC.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001. Comments were not received.

Burden Statement: The annual public reporting and recordkeeping burden for this collection of information is estimated to average 7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to respond to a collection of information; search data sources; complete and review the collection of information; and transmit or otherwise disclose the information.

Respondents/Affected Entities: Glass manufacturing plants.

Estimated Number of Respondents: 45.

Frequency of Response: Initial, semiannual, and on occasion.

Estimated Total Annual Hour Burden: 590.

Estimated Total Annualized Capital, O&M Cost Burden: $261,000.

Send comments on the Agency's need for this information, the accuracy of the provided burden estimates, and any suggested methods for minimizing respondent burden, including through the use of automated collection techniques to the addresses listed above. Please refer to EPA ICR Number 1131.07 and OMB Control Number 2060-0054 in any correspondence.

Dated: October 24, 2002.
Doreen Sterling,
Acting Director, Collection Strategies Division.

[FR Doc. 02-27835 Filed 10-31-02; 8:45 am]

BILLING CODE 6560-50-P